DEPARTMENT OF LABOR

Mine Safety and Health Administration

30 CFR Parts 75 and 104

RIN 1219-AB75, 1219-AB73

Examinations of Work Areas in Underground Coal Mines and Pattern of Violations

AGENCY: Mine Safety and Health Administration, Labor.

ACTION: Proposed rule; notice of public hearings; notice of re-opening and close of comment period.

SUMMARY: The Mine Safety and Health Administration (MSHA) will hold four public hearings on the Agency's proposed rules for Examinations of Work Areas in Underground Coal Mines (Examinations of Work Areas) and for Pattern of Violations. Each hearing will cover the major issues raised by commenters in response to the respective proposed rules.

DATES: Hearings will be held on June 2, 7, 9, and 15, 2011, at the locations listed in the SUPPLEMENTARY INFORMATION section of this document.

Post-hearing comments must be received or postmarked by midnight Eastern Daylight Saving Time on June 30, 2011.

ADDRESSES: Comments, requests to speak, and informational materials for the rulemaking record may be sent to MSHA by any of the following methods. Clearly identify all submissions with “RIN 1219-AB75” for Examinations of Work Areas in Underground Coal Mines' submissions, and with “RIN 1219-AB73” for Pattern of Violations' submissions.

• Federal E-Rulemaking Portal: http://www.regulations.gov. Follow the on-line instructions for submitting comments.

• Facsimile: 202-693-9441.

• Mail or Hand Delivery: MSHA, Office of Standards, Regulations, and Variances, 1100 Wilson Blvd., Room 2350, Arlington, VA 22209-3939. For hand delivery, sign in at the receptionist's desk on the 21st floor.

FOR FURTHER INFORMATION CONTACT: Roslyn B. Fontaine, Acting Director, Office of Standards, Regulations, and Variances, MSHA, at fontaine.roslyn@dol.gov (e-mail); 202-693-9440 (voice); or 202-693-9441 (facsimile).

SUPPLEMENTARY INFORMATION:

I. Availability of Information

Federal Register Publications: The proposed rule for Examinations of Work Areas in Underground Coal Mines, published on December 27, 2010 (75 FR 81165), and the proposed rule for Pattern of Violations, published on February 2, 2011 (76 FR 5719), are available on http://www.regulations.gov and on MSHA's Web site at http://www.msha.gov/REGSPROP.HTM.

Public Comments: MSHA posts all comments without change, including any personal information provided. Access comments electronically on http://www.regulations.gov and on MSHA's Web site at http://www.msha.gov/currentcomments.asp. Review comments in person at the Office of Standards, Regulations, and Variances, 1100 Wilson Blvd., Room 2350, Arlington, VA. Sign in at the receptionist's desk on the 21st floor.

E-mail Notification: To subscribe to receive e-mail notification when MSHA publishes rulemaking documents in the Federal Register, go to http://www.msha.gov/subscriptions/subscribe.aspx.

II. Public Hearings

MSHA will hold four public hearings on its proposed rules for Examinations of Work Areas in Underground Coal Mines and for Pattern of Violations. Requests to speak at a hearing should be made prior to the hearing date. You do not have to make a written request to speak; however, persons and organizations wishing to speak are encouraged to notify MSHA in advance for scheduling purposes. MSHA requests that parties making presentations at the hearings submit their presentations to MSHA, including any documentation, no later than 5 days prior to the hearing.

The public hearings for the Examinations of Work Areas proposal will begin at 8:30 a.m. on each date.

The public hearings for the Pattern of Violations proposal will begin immediately following the conclusion of all testimony on the Examinations of Work Areas proposal.

MSHA is holding the two hearings on each of the following dates at the locations indicated:

Date | Location | Contact No.
June 2 | Embassy Suites Denver, 4444 N. Havana Street, Denver, CO 80239 | 303-375-0400
June 7 | Clay Center for the Arts and Sciences of West Virginia, Walker Theater (use this entrance), One Clay Square, Charleston, WV 25301 | 304-561-3560
June 9 | Sheraton Birmingham, 2101 Richard Arrington, Jr. Blvd. North, Birmingham, AL 35203 | 205-324-5000
June 15 | Department of Labor, Mine Safety and Health Administration Headquarters, 1100 Wilson Boulevard, 25th Floor, Arlington, VA 22209-3939 | 202-693-9440

Each hearing will begin with an opening statement from MSHA, followed by an opportunity for members of the public to make oral presentations. The hearings will be conducted in an informal manner. Formal rules of evidence will not apply. The hearing panel may ask questions of speakers. Speakers and other attendees may present information to MSHA for inclusion in the rulemaking record. MSHA also will accept written comments and other appropriate information for the record from any interested party, including those not presenting oral statements, until the close of the comment period on June 30, 2011.

MSHA will have a verbatim transcript of the proceedings taken for each hearing. Copies of the transcripts will be available to the public on http://www.regulations.gov and on MSHA's Web site at http://www.msha.gov/tscripts.htm.

III. Pattern of Violations: Clarification

Section 104.2(a) of the Pattern of Violations (POV) proposed rule would provide that the specific criteria used in the review to identify mines with a pattern of significant and substantial violations would be posted on MSHA's Web site. In the preamble, MSHA requested specific comments on how the Agency should obtain comment during the development of, and periodic revision to, the POV screening criteria. At this point in the rulemaking, MSHA plans to provide any change to the specific criteria to the public, via posting on the Agency's Web site, for comment before MSHA uses it to review a mine for a POV. MSHA plans to review and respond to comments, and revise, as appropriate, the specific criteria, and post it on the Agency's Web site. MSHA requests comments on this proposed approach to obtaining public input into revisions to the specific POV criteria.

Under § 104.2(a)(8) of the POV proposal, MSHA stated in the preamble that an operator may submit a written safety and health management program to the district manager for approval so that MSHA can determine whether the program's parameters would result in meaningful, measurable, and significant reductions in significant and substantial violations. MSHA would like to clarify that the Agency did not intend that these safety and health management programs be the same as those referenced in the Agency's rulemaking on comprehensive safety and health management programs (RIN 1219-AB71). Rather, a safety and health management program that would be considered by MSHA as a mitigating circumstance in the POV proposal would be one that: (1) Includes measurable benchmarks for abating specific violations that could lead to a POV at a specific mine; and (2) addresses hazardous conditions at that mine.

IV. Request for Comments

MSHA solicits comments from the mining community on all aspects of the proposed rules and is particularly interested in comments that address alternatives to key provisions in the proposals. Commenters are requested to be specific in their comments and submit detailed rationale and supporting documentation for any comment or suggested alternative.

Dated: April 28, 2011.
Joseph A. Main,
Assistant Secretary of Labor for Mine Safety and Health.

[FR Doc. 2011-10788 Filed 4-29-11; 4:15 pm]

BILLING CODE 4510-43-P